DEPARTMENT OF AGRICULTURE

Submission for OMB Review; Comment Request

January 19, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by February 24, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Interagency Generic Clearance for Federal Land Management Agencies Collaborative Visitor Feedback Surveys on Recreation and Transportation Related Programs and Systems.

OMB Control Number: 0596-0236.

Summary of Collection: Section 1119 of Public Law 112-141, the Moving Ahead for Progress in the 21st Century Act (MAP-21) requires the Secretary of Transportation to implement transportation planning procedures for Federal lands and tribal transportation facilities that are consistent with the planning processes required under sections 134 and 135 of title 23[6]. The section also specifies the collection and reporting of data necessary to implement the Federal lands transportation program, the Federal lands access program, and the tribal transportation program in accordance with the Indian Self-Determination and Education Assistance Act. The Federal Land Management Agencies (FLMAs) include, but are not limited to: Forest Service, the Bureau of Land Management, U.S. Fish and Wildlife Service, National Park Service, U.S. Army Corps of Engineers, Presidio Trust, U.S. Geological Survey, Bureau of Reclamation and the Department of Transportation. FLMAs will collect information to help them improve transportation conditions, site-or area-specific services, programs, services, and recreation and resource management of FLMA lands.

Need and Use of the Information: A combination of surveys, focus groups and interviews, are designed to collect information about visitors' perceptions, experiences and expectations, with respect to road and/or travel transportation conditions, services, and recreation opportunities at various FLMA locations and across areas that could include multiple locations managed by different FLMAs. This information is vital to establish and/or revise goals and objectives that will help improve transportation systems and recreation and resource management plans and to facilitate interagency coordination at area, state, regional, and/or national scales which will better meet the needs of the public and the resources under FLMA management.

Under this request, FS seeks to reinstate a discontinued information collection.

Description of Respondents: Individuals or households; Business or other for-profit; Not-for-profit institutions; Farms; Federal Government; State, Local or Tribal Government.

Estimated Number of Respondents: 139,875.

Frequency of Responses: Reporting: On occasion.

Total Burden Hours: 16,830 hours.

Levi S. Harrell,
Departmental Information Collection Clearance Officer.

[FR Doc. 2021-01464 Filed 1-22-21; 8:45 am]

BILLING CODE 3411-15-P